FEDERAL HOUSING FINANCE BOARD

Announcing an Open Meeting of the Board; Sunshine Act Notice

TIME AND DATE: 10 a.m., Wednesday, August 14, 2002.

PLACE: Board Room, Second Floor, Federal Housing Finance Board, 1777 F Street, NW., Washington, DC 20006.

STATUS: The entire meeting will be open to the public.

MATTER TO BE DISCUSSED: Standards of Conduct.

CONTACT PERSON FOR MORE INFORMATION: Elaine L. Baker, Secretary to the Board, (202) 408-2837.

Arnold Intrater,
Acting General Counsel.

[FR Doc. 02-20363 Filed 8-7-02; 2:15 pm]

BILLING CODE 6725-01-M